FEDERAL COMMUNICATIONS COMMISSION

Notice of Public Information Collection(s) Being Reviewed by the Federal Communications Commission; Comments Requested

November 4, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before January 11, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov.

FOR FURTHER INFORMATION CONTACT: For additional information, contact Judith B. Herman, OMD, 202-418-0214 or e-mail judith-b.herman@fcc.gov.

SUPPLEMENTARY INFORMATION: OMB Control Number: 3060-0819.

Title: Sections 54.400 through 54.417, Lifeline Assistance (Lifeline) Connection Assistance (Link-Up) Reporting Worksheet and Instructions.

Form No.: FCC Form 497.

Type of Review: Revision of a currently approved collection.

Respondents: Business or other for-profit.

Number of Respondents and Responses: 251,400 respondents; 251,400 responses.

Estimated Time per Response: .08 hours-1.5 hours.

Frequency of Response: On occasion, annual, monthly, and one time reporting requirements, recordkeeping requirement and third party disclosure requirement.

Obligation to Respond: Required to obtain or retain benefits. Statutory authority for this information collection is contained in 47 U.S.C. 1, 4(i), 201-205, 214, 254, and 403.

Total Annual Burden: 49,386 hours.

Total Annual Cost: N/A.

Privacy Act Impact Assessment: N/A.

Nature and Extent of Confidentiality: The Commission is not requesting the respondents submit confidential information to the Commission. If the Commission requests information that the respondents believe is confidential, respondents may request confidential treatment of such information under 47 CFR 0.459 of the Commission's rules.

Needs and Uses: The Commission will submit this revised collection to the Office of Management and Budget (OMB) after this comment period to obtain the full three year approval from them. The Commission is revising this information collection to merge OMB Control Number 3060-1112 into this information collection (OMB Control Number 3060-0819). The low-income requirements are applicable to and consistent with this collection. After OMB approval, the Commission will discontinue OMB Control Number 3060-1112 and retain OMB Control Number 3060-0819 as the active control number.

Additionally, the Lifeline Order (2004) also requires Eligible Telecommunications Carriers (ETCs) to submit to the Universal Service Administrative Company (USAC or Administrator) proof that they certified that their Lifeline subscribers are eligible for Lifeline, and proof that they verified their subscribers' continued eligibility for Lifeline. Prior to 2009, USAC provided sample certification and verification letters on its website to assist ETCs in complying with the certification and verification requirements. The Annual Lifeline Certification and Verification Letter has been standardized since 2009, and is being revised in this submission to the OMB. Specifically, the Certification and Verification Letter will be updated with an additional check box to accommodate wireless ETCs serving non-federal default states that do not assert jurisdiction over wireless ETCs. Additionally, a column will be added so that carriers may distinguish between “Non-Responding Customers” and “Customers Found to Be Ineligible” in their reports.

Finally, the Lifeline Order requires certain ETCs to verify annually that a statistically valid sample of their Lifeline recipients receiving support continue to be eligible under the federal eligibility criteria. The Lifeline Order's requirement applies only to those ETCs with Lifeline customers from federal default states. A federal default state is a state or territory that either (1) has adopted the federal eligibility criteria for Lifeline/Link Up, or (2) does not have its own state-based Lifeline/Link Up program.

All the requirements contained in this submission to the OMB are necessary to implement the congressional mandate for universal service. These reporting, recordkeeping and/or third party disclosure requirements are necessary to verify that particular carriers and other respondents are eligible to receive universal service support.

Federal Communications Commission.
Marlene H. Dortch,
Secretary.

[FR Doc. 2010-28554 Filed 11-10-10; 8:45 am]

BILLING CODE 6712-01-P